DEPARTMENT OF HEALTH AND HUMAN SERVICES

Centers for Disease Control and Prevention

[60Day-19-1125; Docket No. CDC-2019-0017]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Ingress/egress and work boot outsole wear investigation at surface mines.” The goal of this work is to investigate how ingress/egress systems on mobile equipment and personal protective footwear (work boots) used by miners may lead to slips, trips and falls by interviewing and surveying mine workers and examining work boot outsole characteristics.

DATES: CDC must receive written comments on or before May 20, 2019.

ADDRESSES: You may submit comments, identified by Docket No. CDC-2019-0017 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Ingress/egress and work boot outsole wear investigation at surface mines (OMB Control No. 0920-1125, Expiration Date 9/30/2019)—Extension—National Institute for Occupational Safety and Health (NIOSH), Centers for Disease Control and Prevention (CDC).

Background and Brief Description

The mission of the National Institute for Occupational Safety and Health (NIOSH) is to promote safety & health at work for all people through research and prevention. NIOSH, under Public Law 91-173 as amended by Public Law 95-164 (Federal Mine Safety and Health Act of 1977) has the responsibility to conduct research to improve working conditions and to prevent accidents and occupational diseases in the U.S. mining sector. The goal of the proposed project is to investigate how ingress/egress systems on mobile equipment, and personal protective footwear (boots) used by miners may lead to slips, trips and falls at stone, sand and gravel surface mining facilities. NIOSH is requesting a 2-year extension for this data collection. The extension is requested to help complete data collection for the boot outsole wear study. The results of the boot outsole wear study will be used to inform mine policy and practices by providing miners and mine managers with the knowledge to determine when to replace footwear based on measurable features of the boot outsoles.

The project objective will be achieved through two studies. The first study aims to: Identify elements of ingress/egress systems on haulage trucks and front end loaders that pose a risk of slips, trips, and falls (STFs) and could lead to STF related injuries; to determine worker behavior associated with STF incidents; and to learn how purchasing/maintenance decisions are made for ingress/egress systems. In the surface mining industry, it is still unclear which component of the ingress/egress system poses the greatest risk for STF. Hence, there is a need to understand where, how, and why STF incidents occur during ingress/egress on mobile equipment.

NIOSH will conduct semi-structured interviews and focus groups with mobile equipment operators, and interviews will be conducted with mine management to explore the issues identified above. Focus groups will be conducted in a private setting with 4-6 participants using a predefined list of questions to help guide the discussion. Semi-structured interviews will be conducted either in person or over the telephone. Two separate interview guides will be used for mobile equipment operators and mine management to guide the discussion.

For the focus groups and semi-structured interviews, NIOSH will collect basic demographic information including years of mining experience, years of experience with haul trucks/front end loaders, and models of haul trucks/front end loaders operated most often in the past year. The semi-structured interviews and focus groups will be audio recorded for further analysis of the discussion. The semi-structured interviews will last no longer than 60 minutes and the focus groups will last no longer than 90 minutes.

The second study aims to identify changes in tread (wear) on the work boot outsoles and other outsole characteristics of the boot outsole which that will be used in further analysis to develop guidelines for work boot replacement based on measureable features of boot outsoles. This information will also be used in further analysis to and to determine desirable and undesirable features of work boots based on mine characteristics or job activities. Most mining companies replace footwear at a pre-determined interval, or based on appearance and comfort with little knowledge of the actual condition of the boot outsole and its influence on the likelihood of a STF incident. Although there have been attempts to quantify shoe outsole wear in industrial work when the shoe was ready for disposal, there is a lack of knowledge in the mining industry on how quickly the outsoles of work boots wear, what sorts of wear occur, and how wear patterns influence the likelihood of a STF. This study aims to address this concern through two parts: A longitudinal study of boot outsole wear characteristics and a cross-sectional evaluation of boot outsoles characteristics.

For the longitudinal study, NIOSH will provide participants with a pair of new work boots of their choice, in accordance with their respective mine requirements and policies. Afterwards, participants will complete a preliminary survey and provide some basic demographic information, details of their current work boots, and details of STF incidents in the past 3 months. Participants will be requested to wear the supplied boots at work and treat the boots as they would any pair of work boots they would commonly wear at work.

NIOSH researchers will scan the boot outsoles longitudinally, at 2-3 month intervals for the length of the study. To better understand wear patterns and risks, participants will complete a recurring survey that records hours worked, locations commonly visited, and tasks performed along with details of any near miss or STF events. These self-reports will be collected via survey on a bi-weekly basis. Participants will be offered multiple modalities to respond to the survey (in-person, on paper, over the telephone, via email or using an online survey) to increase response rates. When a participant feels their boots need to be replaced (or when the end of the two-year tracking period has been reached), at the end of the study, the participant will complete a final survey assessing why the boots were at the end of their life, and will return their boots to NIOSH researchers for further analysis.

For the cross cross-sectional study, participants' current work boots will be scanned and participants will complete the preliminary survey that includes basic demographic information, details of current work boots, and details of STF slip, trip or fall events in the past three months.

The results of these research studies will have very different applications, but one goal: Reducing the risks of STF accidents at surface mining facilities. The total estimated burden hours are 643. There is no cost to the respondents other than their time.

Estimated Annualized Burden Hours
Type of respondents | Form name | Number of respondents | Number of responses per respondent | Avg. burden per response (in hrs.) | Total burden (in hrs.)
Mobile equipment Operators | Mobile equipment operators focus group guide | 25 | 1 | 75/60 | 31
Mobile equipment Operators | Mobile equipment operator interview guide | 10 | 1 | 45/60 | 8
Mine Management | Mine Management Interview Guide | 15 | 1 | 45/60 | 11
Mine Worker | Screening Questionnaire | 50 | 1 | 6/60 | 5
Mine Worker | Informed consent form (Longitudinal boot outsole study) | 50 | 1 | 12/60 | 10
Mine Worker | Preliminary survey | 150 | 1 | 15/60 | 38
Mine Worker | Recurring survey | 50 | 52 | 12/60 | 520
Mine Worker | Final Survey | 50 | 1 | 6/60 | 5
Mine Worker | Talent and consent waiver | 150 | 1 | 6/60 | 15
Total |  |  |  |  | 643

Jeffrey M. Zirger,
Lead, Information Collection Review Office, Office of Scientific Integrity, Office of Science, Centers for Disease Control and Prevention.

[FR Doc. 2019-05187 Filed 3-19-19; 8:45 am]

BILLING CODE 4163-18-P